DEPARTMENT OF DEFENSE

Office of the Secretary

[Docket ID: DoD-2013-OS-0001]

Privacy Act of 1974; System of Records

AGENCY: Office of the Secretary of Defense, DoD.

ACTION: Notice to add a new System of Records.

SUMMARY: The Office of the Secretary of Defense proposes to add a new system of records in its inventory of record systems subject to the Privacy Act of 1974 (5 U.S.C. 552a), as amended.

DATES: This proposed action will be effective on February 28, 2013 unless comments are received which result in a contrary determination. Comments will be accepted on or before February 27, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on December 27, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 23, 2013.
Aaron Siegel,
Alternate OSD Federal Register Liaison Officer, Department of Defense.

DSCA 03

System name:

Regional Center Persons/Activity Management System (RCPAMS).

System location:

Horizon Data Center Solutions, 9651 Hornbaker Road, Manassas, Virginia 20109-3976.

Categories of individuals covered by the system:

DoD military and civilian employees, U.S. military students, Foreign Nationals, contractors, alumni, and subject matter experts affiliated with the following Defense Security Cooperation Agency's (DSCA) five regional centers: Africa Center for Strategic Studies (ACSS), Asia-Pacific Center for Security Studies (APCSS), Center for Hemispheric Defense Studies (CHDS), George Marshall European Center for Security Studies (GCMC), and Near-East-South Asia Center for Strategic Studies (NESA). Although not covered by 5 U.S.C. 552a, The Privacy Act of 1974, the system also contains data on international military students (IMS) participating in training programs at the Regional Centers.

Categories of records in the system:

Name, other names used, religious preference, full face photograph, gender, citizenship, date and place of birth, marital status, physical description, email address, work and home addresses, work and home telephone numbers, cell phone numbers, military rank, identification and control numbers generated by RCPAMS and the Security Assistance Network (SAN), passport and visa information, health information, lodging and travel information, emergency contact(s), language capabilities, educational and employment history, training activities, race/ethnicity, spouse information and child information.

Authority for maintenance of the system:

10 U.S.C. 134, Under Secretary of Defense for Policy; DoD Directive 5105.65, Defense Security Cooperation Agency (DSCA); DoD Directive 5101.1, DoD Executive Agent; DoD Directive 5200.41, DoD Regional Centers for Security Studies; and DoD Directive 5132.03, DoD Policy and Responsibilities Relating to Security Cooperation.

Purpose(s):

The purpose of the Regional Center Persons/Activity Management System (RCPAMS) is to provide: (1) A solution for Regional Center staff to manage operational, logistical and cost details about people, events, enrollments and organizations; (2) a tool for reporting on all data related to Regional Center events; (3) a platform for sharing common processes, terminology and data elements to facilitate efficient communication between the Regional Centers; (4) a single view of each person with whom any of the Regional Centers have a relationship, representing the current snapshot and historical record of events and biographical information; (5) an interface to other systems with which the Regional Centers must exchange data for use by other users and organizations; and (6) an enterprise-class Customer Relationship Management platform to manage two-way communication between SAN and RCPAMS related to events and their participants.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Office of the Secretary of Defense (OSD) compilation of systems of records notices may apply to this system.

Policies and practices for storing, retrieving, accessing, retaining, and disposing of records in the system:

Storage:

Paper and electronic storage media.

Retrievability:

Records will be retrieved by the individual's name.

Safeguards:

Paper records are maintained in controlled areas accessible only to authorized personnel. Access to the electronic data is limited to authorized users and requires Common Access Card and is available only through systems security software inherent to the operating system and application, and all access is controlled by authentication methods to validate the approved users. Data transmission is encrypted. The information is also maintained in secured information systems which are located in controlled access facilities, guarded 24 hours a day, and seven days a week.

Retention and disposal:

Disposition pending (until the National Archives and Records Administration approve the retention and disposition of these records, treat as permanent).

System manager and address:

Regional Center Persons/Activity Management Program Manager, Defense Security Cooperation Agency, ATTN: PGM/CMO—RCPAMS Program Manager, 201 12th Street, Suite 203, Arlington, VA 22202-4306.

Notification procedures:

Individuals seeking to determine whether information about themselves is contained in this system of records should address written inquiries to Regional Center Persons/Activity Management Program Manager, Defense Security Cooperation Agency, ATTN: PGM/CMO—RCPAMS Program Manager, 201 12th Street, Suite 203, Arlington, VA 22202-4306.

Written requests should include the full name, current address and telephone number, and the number of the system of records notice and be signed.

Record access procedures:

Individuals seeking access to records about themselves contained in this system should address written inquiries to the Office of the Secretary of Defense/Joint Staff, Freedom of Information Act Requester Services, 1155 Defense Pentagon, Washington, DC 20301-1155.

Written requests should include the full name, current address and telephone number, and the number of the system of records notice and be signed.

Contesting record procedures:

The Office of the Secretary of Defense (OSD) rules for accessing records, for contesting contents and appealing initial agency determinations are published in OSD Administrative Instruction 81; 32 CFR part 311; or may be obtained from the system manager.

Record source categories:

Information obtained from the individual.

Exemptions claimed for the system:

None.

[FR Doc. 2013-01680 Filed 1-25-13; 8:45 am]

BILLING CODE 5001-06-P